DEPARTMENT OF HEALTH AND HUMAN SERVICES

Health Resources and Services Administration

Agency Information Collection Activities; Proposed Collection; Comment Request

ACTION: Notice.

SUMMARY: In compliance with the requirement for opportunity for public comment on proposed data collection projects (Section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1984.

HRSA especially requests comments on: (1) The necessity and utility of the proposed information collection for the proper performance of the agency's functions, (2) the accuracy of the estimated burden, (3) ways to enhance the quality, utility, and clarity of the information to be collected, and (4) the use of automated collection techniques or other forms of information technology to minimize the information collection burden.

Information Collection Request Title: Develop and Implement UCARE4LIFE Message Library (OMB No. 0915-xxxx)—New

Abstract: HRSA HIV/AIDS Bureau (HAB) will develop and implement the UCARE4LIFE message library project aimed at increasing HIV primary care retention rates for racial and ethnic minority youth aged 15 to 24 living with HIV/AIDS. The primary aims are: (1) to develop, test, and maintain a text message library, which addresses topics of HIV disease management, e.g. appointment keeping, retention in care, and medication adherence rates; and (2) to develop, implement, conduct, and evaluate a pilot study of delivering text messages to targeted youth receiving care at Ryan White grantee sites and other clinical sites. HRSA awarded a two-year contract to the Research Triangle Institute (RTI) International to conduct the UCARE4Life project. The UCARE4Life project is supported by the Department of Health and Human Services Secretary's Minority AIDS Initiative Fund (SMAIF), fiscal year (FY) 2012 and FY2013 and a gift from the M.A.C. AIDS Fund.

The first phase of this project will include focus group interviews with the target audience to test the messages (Aim 1). Approximately 128 individuals will be screened to assess focus group eligibility. Four focus groups will be conducted with up to eight participants in each for a total sample size of 32.

The second phase of this project involves the evaluation of the pilot study (Aim 2). This will encompass data collection with patients and providers. Patient participants for the pilot study will be recruited from 10 clinical sites, some of which will be Ryan White grantees. Up to 1,000 individuals will be screened to determine eligibility for the pilot study to recruit a sample of 500 participants (50 from each clinical site). Participants will complete a baseline survey, 3-month survey, 6-month survey, and follow-up survey at 9 months. In addition, 10 patient participants from each clinical site will be selected to participate in an in-depth, qualitative telephone interview for a total of 100 interviews. Finally, up to three clinic staff from the 10 participating clinics will take part in in-depth, qualitative telephone interviews (N=30).

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this Information Collection Request are summarized in the table below.

The annual estimate of burden is as follows:

Form name | Number of respondents | Number of responses per respondent | Total responses | Average burden per response (in hours) | Total burden hours
Patient focus group screener | 128 | 1 | 128 | 0.25 | 32
Patient Focus Group Interview | 32 | 1 | 32 | 2.00 | 64
Patient Pilot Study Screener | 1,000 | 1 | 1,000 | 0.25 | 250
Patient Pilot Study Surveys | 500 | 4 | 2,000 | 0.75 | 1,500
Patient Pilot Study Qualitative Interviews | 100 | 1 | 100 | 1.00 | 100
Clinic Staff Pilot Study Qualitative Interviews | 30 | 1 | 30 | 0.75 | 22.5
Total | 1,790 |  | 3,290 |  | 1,968.5

ADDRESSES: Submit your comments to paperwork@hrsa.gov or mail the HRSA Information Collection Clearance Officer, Room 10-29, Parklawn Building, 5600 Fishers Lane, Rockville, MD 20857.

Deadline: Comments on this information collection request must be received within 60 days of this notice.

Dated: May 3, 2013.
Bahar Niakan,
Director, Division of Policy and Information Coordination.

[FR Doc. 2013-11092 Filed 5-9-13; 8:45 am]

BILLING CODE 4165-15-P